SMALL BUSINESS ADMINISTRATION

[Declaration of Disaster #3632]

Commonwealth of Pennsylvania

As a result of the President's major disaster declaration on September 19, 2004, I find that Allegheny, Armstrong, Beaver, Butler, Centre, Clearfield, Cumberland, Dauphin, Indiana, Lackawanna, Luzerne, Lycoming, Northampton, Perry, Schuylkill, Susquehanna, Washington, Westmoreland, and Wyoming Counties in the Commonwealth of Pennsylvania constitute a disaster area due to damages caused by Tropical Depression Ivan occurring on September 17, 2004, and continuing. Applications for loans for physical damage as a result of this disaster may be filed until the close of business on November 18, 2004 and for economic injury until the close of business on June 20, 2005 at the address listed below or other locally announced locations: U.S. Small Business Administration, Disaster Area 1 Office, 360 Rainbow Blvd., South 3rd Fl.,Niagara Falls, NY 14303-1192.

In addition, applications for economic injury loans from small businesses located in the following contiguous counties may be filed until the specified date at the above location: Adams, Berks, Blair, Bradford, Bucks, Cambria, Cameron, Carbon, Clarion, Clinton, Columbia, Elk, Fayette, Franklin, Greene, Huntingdon, Jefferson, Juniata, Lancaster, Lawrence, Lebanon, Lehigh, Mercer, Mifflin, Monroe, Montour, Northumberland, Somerset, Sullivan, Union, Venango, Wayne, and York in the Commonwealth of Pennsylvania; Warren County in the State of New Jersey; Broome and Tioga Counties in the State of New York; Columbiana County in the State of Ohio; and Brooke, Hancock, Marshall, and Ohio Counties in the State of West Virginia.

The interest rates are:

| Percent
For Physical Damage:
Homeowners With Credit Available Elsewhere | 6.375
Homeowners Without Credit Available Elsewhere | 3.187
Businesses With Credit Available Elsewhere | 5.800
Businesses and Non-Profit Organizations Without Credit Available Elsewhere | 2.900
Others (Including Non-Profit Organizations) With Credit Available Elsewhere | 4.875
For Economic Injury:
Businesses and Small Agricultural Cooperatives Without Credit Available Elsewhere | 2.900

The number assigned to this disaster for physical damage is 363208. For economic injury the number is 9ZZ200 for Pennsylvania; 9ZZ100 for New Jersey; 9ZZ300 for New York; 9ZZ400 for Ohio; and 9ZZ500 for West Virginia.

(Catalog of Federal Domestic Assistance Program Nos. 59002 and 59008).

Dated: September 21, 2004.
Herbert L. Mitchell,
Associate Administrator for Disaster Assistance.

[FR Doc. 04-21906 Filed 9-29-04; 8:45 am]

BILLING CODE 8025-01-P